DEPARTMENT OF STATE

[Public Notice: 12586]

Notice of Open Meeting of Defense Trade Advisory Group

SUMMARY: The Defense Trade Advisory Group (DTAG) will meet in open session. The purpose of the meeting will be to discuss current defense trade issues and topics for further study.

DATES: The Defense Trade Advisory Group (DTAG) will meet in open session from 1 p.m. until 5 p.m. on Wednesday, December 4, 2024. This meeting will be held virtually via Zoom or Webex. The virtual forum will open at 12:45 p.m.

FOR FURTHER INFORMATION CONTACT: Mrs. Whitney Jackson, PM/DDTC, SA-1, 12th Floor, Directorate of Defense Trade Controls, Bureau of Political-Military Affairs, U.S. Department of State, Washington, DC 20522-0112; Telephone (202) 765-6652 or email DTAG@State.gov.

SUPPLEMENTARY INFORMATION: The membership of this advisory committee consists of private sector defense trade representatives, appointed by the Assistant Secretary of State for Political-Military Affairs, who advise the Department on policies, regulations, and technical issues affecting defense trade. The DTAG was established as an advisory committee under the authority of 22 U.S.C. 2651a and 2656 and the Federal Advisory Committee Act, 5 U.S.C. 1001 et seq.

The Directorate of Defense Trade Controls (DDTC) asked the DTAG to present its full analysis and recommendations on nos. 1 and 2 below and provide its initial analysis on nos. 3 and 4: (1) DDTC requests that DTAG analyze and recommend alternative brokering reporting approaches that address all the reporting requirements under section 129.10(b) of the ITAR, so that DDTC receives more accurate and consistent brokering reports to expedite the review process. (2) DDTC requests that DTAG review the format, construct, and organization of DDTC's current FAQs and provide recommendations to improve their effectiveness, including DDTC's communication of updates and modifications. (3) DDTC requests that DTAG present an initial analysis for a multi-phased review of “Production Diplomacy,” focusing on barriers, inefficiencies, and opportunities in co-production, co-development, and sustainment of Defense Articles within laws, regulations, policies, and interagency processes. (4) DDTC requests that DTAG present an initial analysis for a multi-phased review, starting with an assessment of legal and regulatory frameworks and policies impacting USG review and approval for reexports and retransfers. The analysis should consider challenges faced by both U.S. and non-U.S. industries, as well as other relevant factors.

The meeting will be held in Zoom or WebEx. There will be one virtual invitation for each attendee, and only the attendee should use the invitation. In addition, each attendee should access the virtual meeting from a private location. Please let us know if you need any of the following accommodations: live captions, digital/text versions of webinar materials, or other (please specify).

Members of the public may submit questions by email after the formal DTAG virtual presentation. Members of the public may also submit a brief statement (less than three pages) to the committee in writing for inclusion in the public minutes of the meeting. Each member of the public that wishes to attend this virtual session must provide: Name and contact information, including an email address and phone number, and any request for reasonable accommodation to the DTAG Designated Federal Officer (DFO), Paula Harrison, via email at DTAG@State.gov by COB Monday, December 2, 2024.

This announcement might appear in the Federal Register less than 15 days prior to the meeting. The Department of State finds that there is an exceptional circumstance in that this meeting must be held on December 4 due to the need to obtain recommendations from the DTAG prior to the New Year, but this notice was delayed because of a requirement to address urgent logistical issues regarding the meeting.

(Authority: 22 U.S.C. 2651a and 41 CFR 102-3.150.)

Paula C. Harrison,
Senior Management Analyst, Directorate of Defense Trade Controls, Department of State.

[FR Doc. 2024-26880 Filed 11-18-24; 8:45 am]

BILLING CODE 4710-25-P